DEPARTMENT OF THE INTERIOR

National Park Service

Record of Decision for Non-Federal Oil and Gas Regulation Revision Environmental Impact Statement (EIS)

AGENCY: National Park Service, Interior.

ACTION: Notice of availability; record of decision.

SUMMARY: The National Park Service (NPS) has prepared and approved a Record of Decision (ROD) for the Nonfederal Oil and Gas Regulations (36 CFR part 9, subpart B) Revisions. Approval of this Record of Decision completes the National Environmental Policy Act process.

DATES: November 4, 2016.

ADDRESSES: Copies of the ROD are available for public review at http://parkplanning.nps.gov/ROD_9B.

FOR FURTHER INFORMATION CONTACT: David Steensen, Chief, Geologic Resources Division, National Park Service, PO Box 25287, Denver, CO 80225; phone (303) 969-2014. The responsible official for this ROD is Jonathan Jarvis, Director, National Park Service, 1849 C Street NW., Washington, DC 20240.

SUPPLEMENTARY INFORMATION: This process was conducted in accordance with the requirements of the National Environmental Policy Act of 1969, as amended (NEPA) (42 U.S.C. 4321 et seq.), its implementing regulations (40 CFR parts 1500-1508), the Department of the Interior NEPA regulations (43 CFR part 46), and NPS Director's Order 12, Conservation Planning, Environmental Impact Analysis and Decision-Making and accompanying handbook. The original Notice of Intent (NOI) initiating the NEPA process was published in the Federal Register on December 30, 2010 (75 FR 82362). The NOI specifically solicited public comment on draft purpose and need statements, objectives, and issues and concerns related to revisions of the NPS regulations governing non-federal oil and gas development on units of the national park system. The NOI also requested public comment on possible alternatives the NPS should consider in revising the regulations. On October 23, 2015, the NPS released for public review the draft EIS for the Proposed Revision of 9B Regulations Governing Nonfederal Oil and Gas Activities through the publication of a Notice of Availability in the Federal Register (80 FR 64445). The Environmental Protection Agency also issued a Notice of Availability for the draft EIS that was published in the Federal Register on October 30, 2015 (80 FR 66898). On September 2, 2016, the Environmental Protection Agency issued a Notice of Availability for the plan/Final Environmental Impact Statement (FEIS) that was published in the Federal Register (81 FR 60697); NPS also released the FEIS for public review on September 2, 2016, and published its own NPS Notice of Availability in the Federal Register on September 7, 2016 (81 FR 61715).

The FEIS evaluated the environmental consequences of three alternatives, Alternative A (no action), Alternative B (preferred and environmentally preferable alternative), and Alternative C.

Alternative B includes the following alternative elements:

• Elimination of two regulatory provisions that exempt 60% of the oil and gas operations in System units. All operators in System units would be required to comply with the 9B regulations.

• Elimination of the financial assurance (bonding) cap. Financial assurance would be equal to the reasonable estimated cost of site reclamation.

• Improving enforcement authority by incorporating existing NPS penalty provisions. Law enforcement staff would have authority to write citations for noncompliance with the regulations.

• Authorizing compensation to the federal government for new access on federal lands and waters outside the boundary of an operator's mineral right.

• Reformatting the regulations to make it easier to identify an operator's information requirements and operating standards that apply to each type of operation.

Alternative C includes all the proposed changes in Alternative B, except:

• Directional drilling operations: Alternative C would expand the scope of the regulations to encompass surface and subsurface directional drilling operations outside the boundary of a System unit.

• Proposed Operations Located Wholly on Non-Federally Owned Land Within the Boundary of a System Unit: This provision would allow for an exemption to the operations permit requirement for those operations located wholly on non-federally owned land within a System unit, if the operator could demonstrate that the proposed operation would have no effect to NPS administered resources or values.

• Joint and Several Liability: This provision would hold mineral owners and their lessees jointly and severally liable for all obligations to comply with the terms and conditions of an approved permit and any other applicable provision under these regulations.

The NPS consulted with traditionally associated American Indian tribes and groups, State Historic Preservation Officers, United States Fish and Wildlife Service, United States Environmental Protection Agency, state oil and gas regulatory commissions, and the state of Alaska.

The ROD includes a summary of the purpose and need for action, synopses of alternatives considered and analyzed in detail, a description of the selected alternative, including measures that are included in the rule to minimize environmental harm, the basis for the decision, a description of the environmentally preferable alternative, and findings on impairment of park resources. The ROD is not the final agency action for those elements of the EIS that require promulgation of regulations to be effective. Promulgation of such regulations will constitute the final agency action for such elements, and will be published in a separate Federal Register document.

Dated: October 23, 2016.
Jonathan B. Jarvis,
Director, National Park Service.

[FR Doc. 2016-26492 Filed 11-3-16; 8:45 am]

BILLING CODE 4312-52-P